DEPARTMENT OF AGRICULTURE

Grain Inspection, Packers and Stockyards Administration

[99-04-s]

Designation for the Lincoln (NE), Memphis (TN), Omaha (NE), Jamestown (ND), Sioux City (IA), and Fort Dodge (IA) Areas

AGENCY: Grain Inspection, Packers and Stockyards Administration (GIPSA).

ACTION: Notice.

SUMMARY: GIPSA announces designation of the following organizations to provide official services under the United States Grain Standards Act, as amended (Act):

Lincoln Inspection Service, Inc. (Lincoln);

Memphis Grain Inspection Service (Memphis);

Omaha Grain Inspection Service, Inc. (Omaha);

Grain Inspection, Inc. (Jamestown);

Sioux City Inspection and Weighing Service Company (Sioux City); and

A. V. Tischer and Son, Inc. (Tischer).

EFFECTIVE DATES: May 1, 2000, for Lincoln, Memphis, and Omaha; July 1, 2000, for Jamestown, Sioux City, and Tischer.

ADDRESSES: USDA, GIPSA, Janet M. Hart, Chief, Review Branch, Compliance Division, STOP 3604, Room 1647-S, 1400 Independence Avenue, SW, Washington, DC 20250-3604.

FOR FURTHER INFORMATION CONTACT: Janet M. Hart at 202-720-8525.

SUPPLEMENTARY INFORMATION: This action has been reviewed and determined not to be a rule or regulation as defined in Executive Order 12866 and Departmental Regulation 1512-1; therefore, the Executive Order and Departmental Regulation do not apply to this action.

In the October 1, 1999, Federal Register (64 FR 53312), GIPSA asked persons interested in providing official services in the geographic areas assigned to Lincoln, Memphis, Omaha, Jamestown, Sioux City, and Tischer to submit an application for designation. Applications were due by October 30, 1999. Lincoln, Memphis, Omaha, Jamestown, Sioux City, and Tischer, the only applicants, each applied for designation to provide official services in the entire area currently assigned to them. Since these official agencies were the sole applicants, GIPSA did not ask for comments on the applicants.

GIPSA evaluated all available information regarding the designation criteria in Section 7(f)(l)(A) of the Act and, according to Section 7(f)(l)(B), determined that Lincoln, Memphis, Omaha, Jamestown, Sioux City, and Tischer are able to provide official services in the geographic areas for which they applied.

The following organizations are designated to provide official services in the geographic areas specified in the October 1, 1999, Federal Register.

Official agency | Designation start | Designation end | Telephone
Lincoln | 05/01/2000 | 03/31/2003 | 402-435-4386
Memphis | 05/01/2000 | 03/31/2003 | 901-942-3216
Omaha | 05/01/2000 | 03/31/2003 | 402-341-6739
Jamestown | 07/01/2000 | 03/31/2003 | 701-252-1290
Sioux City | 07/01/2000 | 03/31/2003 | 712-255-8073
Tischer | 07/01/2000 | 03/31/2003 | 515-955-7012

Interested persons may obtain official services by calling the telephone numbers listed above.

Authority: Pub. L. 94-582, 90 Stat. 2867, as amended (7 U.S.C. 71 et seq.).

Dated: February 4, 2000.
Neil E. Porter,
Director, Compliance Division.

[FR Doc. 00-4681 Filed 2-29-00; 8:45 am]

BILLING CODE 3410-EN-P